DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: The National Historically Black College and University Substance Use Survey Project—New—The National Historically Black College and University (HBCU) Substance Abuse Consortium, sponsored by the Substance Abuse and Mental Health Services Administration's Center for Substance Abuse Treatment (CSAT), was organized in an effort to increase awareness of substance abuse related problems on our nation's HBCU campuses. To this end, CSAT and the Consortium's major objectives include: (a) Assess the prevalence of alcohol, tobacco, and other drug use at participating institutions and identify strategies for combating the problem; (b) enhance substance abuse curriculum development that will lead to degrees in substance abuse treatment and prevention; (c) provide resources for the development of substance abuse education awareness programs on campuses, and (d) provide resources for the necessary counseling and referral for students with substance abuse problems.

This survey will be used to assess the extent of substance knowledge, attitudes and behaviors in first semester freshmen at HBCUs across the country. The survey is an anonymous, self-report 65-item questionnaire. The objectives of this project are to assess the attitudes, knowledge and behaviors of entering freshmen students in a select sample of 40 HBCU's and to determine the extent of problem behavior as it relates to substance abuse on these campuses. This data will give valuable information that will enable CSAT and Consortium schools to meet the above objectives. A follow-up survey activity is planned during the students' junior year which will allow for an examination of the changes in attitudes, behaviors and knowledge as the students matriculate on the campuses. The National HBCU Substance Use Survey project will be able to fill gaps in the literature and contribute incremental knowledge about an important, but understudied population.

The burden estimates are summarized below and include time for distributing the survey questionnaire, giving instructions and collecting the completed questionnaires. This burden will be experienced over a three-year period.

Survey | Number of respondents | Responses per respondent | Average burden per response (Hr.) | Total burden
35,000 | Freshmen | 1 | 1 | 35,000
35,000 | Juniors | 1 | 1 | 29,750
29,750 | Total |  |  | 64,759

Send comments to Nancy Pearce, SAMHSA Reports Clearance Officer, Room 16-105, Parklawn Building, 5600 Fishers Lane, Rockville, MD 20857. Written comments should be received within 60 days of this notice.

Dated: July 9, 2001.
Richard Kopanda,
Executive Officer, SAMHSA.

[FR Doc. 01-17660 Filed 7-13-01; 8:45 am]

BILLING CODE 4162-20-P